DEPARTMENT OF ENERGY

Federal Energy Regulatory Commission

Combined Notice of Filings #1

August 20, 2009.

Take notice that the Commission received the following electric corporate filings:

Docket Numbers: EC08-46-002.

Applicants: Entergy Nuclear Generation Company, Entergy Nuclear Palisades, LLC, Entergy Nuclear Power Marketing, LLC, Entergy Nuclear Vermont Yankee, LLC, Entergy Nuclear Fitzpatrick, LLC, Entergy Nuclear Indian Point 2, LLC, Entergy Nuclear Indian Point 3, LLC.

Description: Amended Application Under Section 203 of the Federal Power Act for Authorization of Indirect Disposition of Jurisdictional Facilities and Request for Waivers of Entergy Nuclear Generation Company, et al.

Filed Date: 08/12/2009.

Accession Number: 20090812-5091.

Comment Date: 5 p.m. Eastern Time on Wednesday, September 02, 2009.

Take notice that the Commission received the following electric rate filings:

Docket Numbers: ER00-136-006.

Applicants: FortisUS Energy Corporation.

Description: Motion of FortisUS Energy Corporation's Second Supplement to Notice of Non-Material Change in Status.

Filed Date: 08/19/2009.

Accession Number: 20090819-5087.

Comment Date: 5 p.m. Eastern Time on Wednesday, September 09, 2009.

Docket Numbers: ER09-1180-002.

Applicants: Entergy Services, Inc.

Description: Entergy Operating Companies submits notification that they intend to transition to webTrans and webOASIS on 9/28/09 and revisions revising the 6/1/09 filing.

Filed Date: 08/18/2009.

Accession Number: 20090819-0706.

Comment Date: 5 p.m. Eastern Time on Tuesday, September 08, 2009.

Docket Numbers: ER09-1404-001.

Applicants: Wisconsin Electric Power Company.

Description: Wisconsin Electric Power Company submits certain revisions to the Restated Power Service Agreement etc.

Filed Date: 08/18/2009.

Accession Number: 20090819-0627.

Comment Date: 5 p.m. Eastern Time on Tuesday, September 08, 2009.

Docket Numbers: ER09-1405-001.

Applicants: Wisconsin Electric Power Company.

Description: Wisconsin Electric Power Company submits certain revisions to the Restated Power Service Agreement etc.

Filed Date: 08/18/2009.

Accession Number: 20090819-0628.

Comment Date: 5 p.m. Eastern Time on Tuesday, September 08, 2009.

Docket Numbers: ER09-1406-001.

Applicants: Wisconsin Electric Power Company.

Description: Wisconsin Electric Power Company submits certain revisions to the Restated Power Service Agreement between Wisconsin Electric and Ontonagon County Rural Electrification Association.

Filed Date: 08/18/2009.

Accession Number: 20090819-0629.

Comment Date: 5 p.m. Eastern Time on Tuesday, September 08, 2009.

Docket Numbers: ER09-1407-001.

Applicants: Wisconsin Electric Power Company.

Description: Wisconsin Electric Power Company submits certain tariff revisions to its Formula Rate Wholesale Sales Tariff.

Filed Date: 08/19/2009.

Accession Number: 20090819-0630.

Comment Date: 5 p.m. Eastern Time on Wednesday, September 09, 2009.

Docket Numbers: ER09-1606-000.

Applicants: Wisconsin Public Service Corporation.

Description: Wisconsin Public Service Corporation et al. submits the Local Balancing Authority Area Operations Coordination Agreement between the Parties.

Filed Date: 08/19/2009.

Accession Number: 20090819-0705.

Comment Date: 5 p.m. Eastern Time on Wednesday, September 09, 2009.

Docket Numbers: ER09-1607-000.

Applicants: Barton Windpower II LLC.

Description: Barton Windpower II LLC submits Notice of Cancellation of its market-based rate tariff, FERC Electric, Original Volume 1.

Filed Date: 08/19/2009.

Accession Number: 20090819-0704.

Comment Date: 5 p.m. Eastern Time on Wednesday, September 09, 2009.

Take notice that the Commission received the following electric reliability filings

Docket Numbers: RD09-10-000.

Applicants: North American Electric Reliability Corp.

Description: North American Electric Reliability Corporation Petition for Approval of Proposed Reliability Standard NUC-001-2-Nuclear Plant Interface Coordination.

Filed Date: 08/14/2009.

Accession Number: 20090814-5127.

Comment Date: 5 p.m. Eastern Time on Monday, September 14, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-20996 Filed 8-31-09; 8:45 am]

BILLING CODE 6717-01-P